DEPARTMENT OF THE TREASURY

United States Mint

Prices of Liberty & Britannia 24K High Relief Gold Proof Coin on the “2024 Pricing of Numismatic Gold, Commemorative Gold, Platinum, and Palladium Products” Grid

AGENCY: United States Mint, Department of the Treasury.

ACTION: Notice.

SUMMARY: The United States Mint announces pricing for the Liberty & Britannia 24K High Relief Gold Proof Coin on the 2024 Pricing of Numismatic Gold, Commemorative Gold, Platinum, and Palladium Products Grid.

The complete 2024 Pricing of Numismatic Gold, Commemorative Gold, Platinum, and Palladium Products Grid will be available online at https://catalog.usmint.gov/coin-programs/american-eagle-coins.

Pricing can vary weekly dependent upon the London Bullion Market Association gold, platinum, and palladium prices weekly average. The pricing for all United States Mint numismatic gold, platinum, and palladium products is evaluated every Wednesday and modified as necessary.

FOR FURTHER INFORMATION CONTACT: Ann Bailey, Sales and Marketing Directorate, United States Mint, 801 9th Street NW, Washington, DC 20220; or call 202-354-7500 or Rosa.Williams@usmint.treas.gov.

Authority: 31 U.S.C. 5112 & 9701.

Eric Anderson,
Executive Secretary, United States Mint.

[FR Doc. 2024-01093 Filed 1-19-24; 8:45 am]

BILLING CODE 4810-37-P